FEDERAL COMMUNICATIONS COMMISSION

47 CFR Part 73

[DA 04-3473, MB Docket No. 04-281, RM-11041]

Digital Television Broadcast Service and Television Broadcast Service; Mobile, AL

AGENCY: Federal Communications Commission.

ACTION: Final rule.

SUMMARY: The Commission, at the request of Paxson Communications Corporation, substitutes DTV channel 18 for TV channel 61 at Mobile, Alabama. See 69 FR 46476, August 3, 2004. DTV channel 18 can be allotted to Mobile, Alabama, in compliance with Sections 73.622(a) and 73.625(a) at coordinates 30-36-45 N. and 87-38-43 W. with a power of 396, HAAT of 552 meters and with a DTV service population of 1115 thousand. With this action, this proceeding is terminated.

DATES: Effective December 20, 2004.

FOR FURTHER INFORMATION CONTACT: Pam Blumenthal, Media Bureau, (202) 418-1600.

SUPPLEMENTARY INFORMATION: This is a synopsis of the Commission's Report and Order, MB Docket No. 04-281, adopted October 28, 2004, and released November 5, 2004. The full text of this document is available for public inspection and copying during regular business hours in the FCC Reference Information Center, Portals II, 445 12th Street, SW., Room CY-A257, Washington, DC 20554. This document may also be purchased from the Commission's duplicating contractor, Best Copy and Printing, Inc., 445 12th Street, SW., Room CY-B402, Washington, DC 20554, telephone (301) 816-2820, facsimile (301) 816-0169, or via e-mail joshir@erols.com.

This document does not contain [new or modified] information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this [Report & Order, etc.] in a report to be sent to Congress and the General Accounting Office pursuant to the Congressional Review Act, see 5 U.S.C. 801(a)(1)(A).

List of Subjects in 47 CFR Part 73

Television broadcasting.

Part 73 of Title 47 of the Code of Federal Regulations is amended as follows:

PART 73—[AMENDED]

1. The authority citation for part 73 continues to read as follows:

Authority: 47 U.S.C. 154, 303, 334 and 336.

§ 73.606 [Amended]

2. Section 73.606(b), the Table of Television Allotments under Alabama, is amended by removing TV channel 61 at Mobile.

§ 73.622 [Amended]

3. Section 73.622(b), the Digital Table of Television Allotments under Alabama, is amended by adding DTV channel 18 at Mobile.

Federal Communications Commission.
Barbara A. Kreisman,
Chief, Video Division, Media Bureau.

[FR Doc. 04-25219 Filed 11-10-04; 8:45 am]

BILLING CODE 6712-01-P